DEPARTMENT OF AGRICULTURE

Agricultural Marketing Service

7 CFR Part 1210

[FV-01-701 FR C]

Watermelon Research and Promotion Plan: Referendum Procedures; Correction

AGENCY: Agricultural Marketing Service, USDA.

ACTION: Final rule; technical amendment.

SUMMARY: The Agricultural Marketing Service (AMS) published a final rule in the Federal Register on November 7, 2001 (66 FR 56386), establishing referendum procedures to be used in connection with the Watermelon Research and Promotion Plan. The final rule contained errors in the section numbers. This document corrects those errors.

EFFECTIVE DATE: April 12, 2002.

FOR FURTHER INFORMATION CONTACT: Daniel R. Manzoni, Research and Promotion Branch, FV, AMS, USDA, Stop 0244, 1400 Independence Avenue, SW., Room 2535 South Building, Washington, DC 20250-0244; telephone (202) 720-9915; faximile (202) 205-2800; or daniel.manzoni@usda.gov.

SUPPLEMENTARY INFORMATION:

Background

The Department of Agriculture (Department) published a final rule in the Federal Register in November 2, 2001, [66 FR 56386], establishing referendum procedures pursuant to the Watermelon Research and Promotion Plan [7 CFR part 1210]. The Plan is issued under the Watermelon Research and Promotion Act [7 U.S.C. 4901-4916].

Need for Correction

As published, there were typographical errors in the final rule. Several section numbers in the final rule did not reference the correct sections of the Code of Federal Regulations. Accordingly, this correction document replaces the incorrect section numbers, §§ 1240.601 through § 1240.607, with the correct section numbers §§ 1210.601 through 1210.607.

List of Subjects in 7 CFR Part 1210

Administrative practice and procedure, Advertising Consumer information, Marketing agreements, Reporting and recordkeeping requirements, Watermelon promotion.

PART 1210—WATERMELON RESEARCH AND PROMOTION PLAN

Accordingly, 7 CFR part 1210 is corrected by redesignating §§ 1240.601 through 1240.607 as §§ 1210.601 through 1210.607.

Dated: April 8, 2002.
A.J. Yates,
Administrator, Agricultural Marketing Service.

[FR Doc. 02-8944 Filed 4-11-02; 8:45 am]

BILLING CODE 3410-02-M